DEPARTMENT OF HOMELAND SECURITY

Coast Guard

33 CFR Part 117

[Docket No. USCG-2011-1134]

Drawbridge Operation Regulations; Atlantic Intracoastal Waterway (AIWW), Wrightsville Beach, NC

AGENCY: Coast Guard, DHS.

ACTION: Notice of temporary deviation from regulations.

SUMMARY: The Commander, Fifth Coast Guard District, has approved a temporary deviation from the regulations governing the operation of the S.R. 74 Bridge across the AIWW, mile 283.1, at Wrightsville Beach, NC. The deviation restricts the operation of the draw span to facilitate the structural repair of the bridge.

DATES: This deviation is effective from 7 p.m. on January 3, 2012 until 7 a.m. on March 15, 2012.

ADDRESSES: Documents mentioned in this preamble as being available in the docket USCG-2011-1134 and are available online by going to http://www.regulations.gov, inserting USCG-2011-1134 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: The North Carolina Department of Transportation, who owns and operates this bascule-lift type bridge, has requested a temporary deviation from the current operating regulations set out in 33 CFR 117.821(a)(4), to facilitate the structural repair of the bridge.

The S.R. 74 Bridge across the AIWW mile 283.1, at Wrightsville Beach, NC has a vertical clearance in the closed position of 20 feet, above mean high water.

Under the regular operating schedule, the drawbridge shall open on signal for commercial vessels at all times; and on signal for pleasure vessels except between 7 a.m. and 7 p.m. when the drawbridge need only open on the hour.

Under this temporary deviation, the structural repairs will restrict the operation of the draw span to the closed-to-navigation position, each day from 7 p.m. to 7 a.m., beginning on Tuesday, January 3, 2012 and ending on Thursday, March 15, 2012; except vessel openings will be provided with at least two hours advance notice given to the bridge operator. Each day between 7 a.m. and 7 p.m., the drawbridge will continue to operate as set out in 33 CFR 117.821(a).

Vessels may transit under the drawbridge while it is in the closed position. The Atlantic Intracoastal Waterway serves a variety of vessels from tug and barge traffic to recreational vessels traveling from Florida to Maine. The Coast Guard will inform unexpected users of the waterway through our local and broadcast Notices to Mariners of the limited operating schedule for the drawbridge so that vessels can arrange their transits to minimize any impacts caused by the temporary deviation. In 2011, from January thru March, 7 p.m. to 7 a.m., this draw opened approximately 35 times per month. The Atlantic Ocean is the alternate route for vessels and the bridge will be able to open in the event of an emergency.

In accordance with 33 CFR 117.35(e), the draw must return to its original operating schedule immediately at the end of the designated time period. This deviation from the operating regulations is authorized under 33 CFR 117.35.

Dated: December 30 2011.
W.D. Lee,
Rear Admiral, District Commander, Fifth Coast Guard District.

[FR Doc. 2012-51 Filed 1-3-12; 4:15 pm]

BILLING CODE 4910-15-P